FEDERAL RETIREMENT THRIFT INVESTMENT BOARD

Board Member Meeting

77 K Street NE, 10th Floor, Washington, DC 20002

November 13, 2019, 8:30 a.m.

Open Session

1. Approval of the October 28, 2019 Board Meeting Minutes

2. Investment Manager Annual Service Review

3. Investment Benchmark Update

4. Monthly Reports

(a) Participant Activity Report

(b) Investment Performance

(c) Legislative Report

5. Quarterly Reports

(d) Metrics

6. Office of Resource Management Annual Report and FEVS Update

Closed Session

Information covered under 5 U.S.C. 552b(c)(6).

Contact Person for More Information: Kimberly Weaver, Director, Office of External Affairs, (202) 942-1640.

Dated: October 30, 2019.
Megan Grumbine,
General Counsel, Federal Retirement Thrift Investment Board.

[FR Doc. 2019-24085 Filed 11-4-19; 8:45 am]

BILLING CODE 6760-01-P